DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List based on OFAC's determination that one or more applicable legal criteria were satisfied. OFAC is also revising the entries of a person and a vessel that have been placed on OFAC's Specially Designated Nationals and Blocked Persons List. All property and interests in property subject to U.S. jurisdiction of these persons and these vessels are blocked, and U.S. persons are generally prohibited from engaging in transactions with them.

DATES: See Supplementary Information section for applicable date(s).

FOR FURTHER INFORMATION CONTACT: OFAC: Lisa M. Palluconi, Acting Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On September 10, 2010, OFAC determined that the property and interests in property subject to U.S. jurisdiction of the following persons and vessels are blocked under the relevant sanctions authorities listed below.

On September 10, 2024, OFAC also identified the following vessels as property in which a blocked person has an interest under the relevant sanctions authority listed below:

Vessels

1. BORIS KUSTODIEV (UFXZ) General Cargo Russia flag; Secondary sanctions risk: See Section 11 of Executive Order 14024.; Vessel Registration Identification IMO 9103817; MMSI 273191000 (vessel) [RUSSIA-EO14024] (Linked To: MG-FLOT LIMITED LIABILITY COMPANY).

Identified as property in which MG-FLOT LIMITED LIABILITY COMPANY, a person whose property and interests in property are blocked pursuant to E.O. 14024, has an interest.

2. KOMPOZITOR RAKHMANINOV (UCXW) Roll-on Roll-off Russia flag; Secondary sanctions risk: See Section 11 of Executive Order 14024.; Vessel Registration Identification IMO 8606616; MMSI 273452650 (vessel) [RUSSIA-EO14024] (Linked To: MG-FLOT LIMITED LIABILITY COMPANY).

Identified as property in which MG-FLOT LIMITED LIABILITY COMPANY, a person whose property and interests in property are blocked pursuant to E.O. 14024, has an interest.

3. PORT OLYA-3 (UHEQ) General Cargo Russia flag; Secondary sanctions risk: See Section 11 of Executive Order 14024.; Vessel Registration Identification IMO 9481910; MMSI 273371920 (vessel) [RUSSIA-EO14024] (Linked To: MG-FLOT LIMITED LIABILITY COMPANY).

Identified as property in which MG-FLOT LIMITED LIABILITY COMPANY, a person whose property and interests in property are blocked pursuant to E.O. 14024, has an interest.

4. PORT OLYA-4 (UDHW) General Cargo Russia flag; Secondary sanctions risk: See Section 11 of Executive Order 14024.; Vessel Registration Identification IMO 9481934; MMSI 273390550 (vessel) [RUSSIA-EO14024] (Linked To: MG-FLOT LIMITED LIABILITY COMPANY).

Identified as property in which MG-FLOT LIMITED LIABILITY COMPANY, a person whose property and interests in property are blocked pursuant to E.O. 14024, has an interest.

On September 10, 2024, OFAC published the following revised information for the entry on the SDN List for the following person and property blocked under the relevant sanctions authority listed below.

Entity

1. MG-FLOT LIMITED LIABILITY COMPANY (a.k.a. MG-FLOT LLC (Cyrillic: OOO МГ-ФЛОТ); a.k.a. MG-FLOT OOO; a.k.a. TRANSMORFLOT LLC; a.k.a. TRANSMORFLOT SHIPPING COMPANY; a.k.a. TRANSMORPORT OOO), House 18 D Premise 1, Lenina Street, Akhtynskiy District, Republic of Dagestan 368730, Russia; ul. Chkalova, D. 27, Olya, Astrakhan Oblast 416425, Russia; Secondary sanctions risk: See Section 11 of Executive Order 14024.; Organization Established Date 17 Feb 2005; Tax ID No. 3017041900 (Russia); Identification Number IMO 6330601; alt. Identification Number IMO 6016988; Government Gazette Number 75191644 (Russia); Business Registration Number 1053001124483 (Russia) [RUSSIA-EO14024].

Designated pursuant to section 1(a)(i) of E.O. 14024 for operating or having operated in the marine sector of the Russian Federation economy.

Vessel

1. SAPFIR (a.k.a. ETIM EMIN) (UBIG5) General Cargo 1,853GRT Russia flag; Secondary sanctions risk: See Section 11 of Executive Order 14024.; Vessel Registration Identification IMO 8700010; MMSI 273355400 (vessel) [RUSSIA-EO14024] (Linked To: MG-FLOT LIMITED LIABILITY COMPANY).

Identified as property in which MG-FLOT LIMITED LIABILITY COMPANY, a person whose property and interests in property are blocked pursuant to E.O. 14024, has an interest.

Dated: September 10, 2024.
Lisa M. Palluconi,
Acting Director, Office of Foreign Assets Control, U.S. Department of the Treasury.

[FR Doc. 2024-20934 Filed 9-13-24; 8:45 am]

BILLING CODE 4810-AL-P